DEPARTMENT OF TRANSPORTATION

Federal Aviation Administration

14 CFR Parts 119, 121, 129, 135, and 183

[Docket No. FAA-1999-5401; Amdt. Nos 119-6, 121-296, 129-34, 135-87, and 183-11]

RIN 2120-AE42

Aging Airplane Safety; Correction

AGENCY: Federal Aviation Administration (FAA), DOT.

ACTION: Interim final rule; correction.

SUMMARY: This document corrects amendment numbers in the final rule published in the Federal Register on February 4, 2003. That action extended the comment period for the interim final rule which deals with inspections and records reviews required on aircraft with more than fourteen years in service.

EFFECTIVE DATE: This correction is effective on February 11, 2004.

FOR FURTHER INFORMATION CONTACT: Frederick Sobeck, telephone (202) 267-7355.

Correction

In final rule FR Doc. 03-2679, published on February 4, 2003 (68 FR 5782), make the following corrections:

1. On page 5782, in column 1 of the heading section, beginning on line five, correct “Amdt. Nos. 119-6, 121-284, 129-34, 135-81, and 183-11” to read “Amdt. Nos. 119-6, 121-296, 129-34, 135-87, and 183-11”.

Issued in Washington, DC on January 30, 2004.
Donald P. Byrne,
Assistant Chief Counsel for Regulations.

[FR Doc. 04-2879 Filed 2-10-04; 8:45 am]

BILLING CODE 4910-13-U